DEPARTMENT OF EDUCATION

National Assessment Governing Board; Meeting

AGENCY: National Assessment Governing Board; Education.

ACTION: Notice of Closed Teleconference Meeting.

SUMMARY: The notice sets forth the schedule and proposed agenda of a forthcoming closed teleconference meeting of the National Assessment Governing Board. This notice also describes the functions of the Board. Notice of this meeting is required under Section 10(a)(2) of the Federal Advisory Committee Act.

DATES: December 15, 2008.

Time: 2:00 p.m.-4:00 p.m. Eastern Daylight Time.

Location: Via Teleconference.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Governing Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On Monday, December 15, 2008, the full Board will hold a closed teleconference meeting from 200 p.m. to 400 p.m. to review and discuss the qualifications of individuals to fill the vacant position of Executive Director of the National Assessment Governing Board. Based on these discussions, the full Board will approve the hire of the Executive Director. These discussions pertain solely to internal personnel rules and practices of an agency and will disclose information of a personal nature where disclosure would constitute an unwarranted invasion of personal privacy. As such, the discussions are protected by exemptions 2 and 6 of section 552b(c) of Title 5 U.S.C.

A summary of the activities of the closed teleconference, and related matters which are informative to the public and consistent with the policy of section 552b(c), will be available to the public within 14 days after the meeting. Records are kept of all Board proceedings and are available for public inspection at the U.S. Department of Education, National Assessment Governing Board, 800 North Capitol Street, NW., Suite 825, Washington DC 20002, from 8:30 a.m. to 500 p.m.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: www.gpoaccess.gov/nara/index.html.

Dated: November 20, 2008.
Mary Crovo,
Interim Executive Director, National Assessment Governing Board, U.S. Department of Education.

[FR Doc. E8-28547 Filed 12-1-08; 8:45 am]

BILLING CODE 4000-01-P